DEPARTMENT OF AGRICULTURE

Animal and Plant Health Inspection Service

7 CFR Part 319

[Docket No. APHIS-2016-0022]

RIN 0579-AE29

Importation of Hass Avocados From Colombia

AGENCY: Animal and Plant Health Inspection Service, USDA.

ACTION: Proposed rule.

SUMMARY: We are proposing to amend the fruits and vegetables regulations to allow the importation of Hass avocados from Colombia into the continental United States. As a condition of entry, Hass avocados from Colombia would have to be produced in accordance with a systems approach that would include requirements for importation in commercial consignments; registration and monitoring of places of production and packinghouses; pest-free places of production; grove sanitation, monitoring, and pest control practices; lot identification; and inspection for quarantine pests by the Colombian national plant protection organization. Additionally, avocados from Colombia would be required to be accompanied by a phytosanitary certificate with an additional declaration stating that the avocados have been produced in accordance with the proposed requirements. This action would allow for the importation of Hass avocados from Colombia into the continental United States while continuing to provide protection against the introduction of plant pests.

DATES: We will consider all comments that we receive on or before December 27, 2016.

ADDRESSES: You may submit comments by either of the following methods:

• Federal eRulemaking Portal: Go to http://www.regulations.gov/#!docketDetail;D=APHIS-2016-0022.

• Postal Mail/Commercial Delivery: Send your comments to Docket No. APHIS-2016-0022, Regulatory Analysis and Development, PPD, APHIS, Station 3A-03.8, 4700 River Road, Unit 118, Riverdale, MD 20737-1238.

Supporting documents and any comments we receive on this docket may be viewed at http://www.regulations.gov/#!docketDetail;D=APHIS-2016-0022 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David B. Lamb, Senior Regulatory Policy Specialist, USDA/APHIS/PPQ, 4700 River Road, Unit 133, Riverdale, MD 20737-1236; (301) 851-2103; David.B.Lamb@aphis.usda.gov.

SUPPLEMENTARY INFORMATION:

Background

Under the regulations in “Subpart—Fruits and Vegetables” (7 CFR 319.56-1 through 319.56-75, referred to below as the regulations or the fruits and vegetables regulations), the Animal and Plant Health Inspection Service (APHIS) of the United States Department of Agriculture (USDA) prohibits or restricts the importation of fruits and vegetables into the United States from certain parts of the world to prevent plant pests from being introduced into and spread within the United States.

The national plant protection organization (NPPO) of Colombia has requested that we amend the regulations to allow Hass avocados (Persea americana) from Colombia to be imported into the continental United States.

In evaluating Colombia's request, we prepared a pest risk assessment (PRA) and risk management document (RMD). Copies of the PRA and the RMD may be obtained from the person listed under FOR FURTHER INFORMATION CONTACT or viewed on the Regulations.gov Web site (see ADDRESSES above for instructions for accessing Regulations.gov).

The PRA, titled “Importation of Fresh Fruit of Avocado, Persea americana Miller var. `Hass', into the Continental United States from Colombia: A Pathway Initiated Risk Assessment,” analyzes the potential pest risk associated with the importation of fresh Hass avocados into the continental United States from Colombia.

The PRA identifies four pests of quarantine significance present in Colombia that could follow the pathway of Hass avocados from Colombia to the continental United States. They are:

• Heilipus lauri Boheman, an avocado seed weevil.

• Heilipus trifasciatus, an avocado seed weevil.

• Maconellicoccus hirsutus (Green), pink hibiscus mealybug.

• Stenoma catenifer, avocado seed moth.

The PRA derives plant pest risk potentials for these pests by estimating the likelihood of introduction of each pest into the continental United States through the importation of Hass avocados from Colombia, as well as the consequences of such introduction, if the avocados are not subject to mitigations to address the pests. The PRA considers three of the pests to have a high unmitigated pest risk potential (H. lauri, H. trifasciatus, and S. catenifer), and one (M. hirsutus) to have a medium unmitigated pest risk potential.

Based on the findings of the PRA, APHIS has determined that measures beyond standard port-of-entry inspection are necessary in order to mitigate the risk associated with the importation of fresh Hass avocados from Colombia into the continental United States. These measures are listed in the RMD and are used as the basis for the requirements of this proposed rule.

Therefore, we are proposing to amend the regulations to allow the importation of commercial consignments of fresh Hass avocados from Colombia into the continental United States, subject to a systems approach. Requirements of the systems approach, which would be added to the regulations as a new § 319.56-76, are discussed below.

Proposed Systems Approach

General Requirements

Proposed paragraph (a) of § 319.56-76 would set out general requirements for fresh Hass avocados from Colombia destined for export to the continental United States.

Proposed paragraph (a)(1) would require the NPPO of Colombia to provide an operational workplan to APHIS that details the systems approach activities that the NPPO of Colombia and places of production and packinghouses registered with the NPPO of Colombia would, subject to APHIS approval of the workplan, implement to meet the proposed requirements. An operational workplan is an arrangement between APHIS' Plant Protection and Quarantine program and officials of the NPPO of a foreign government that specifies in detail the phytosanitary measures that will comply with U.S. regulations governing the import or export of a specific commodity. Other foreign parties associated with an export program, such as producers and packinghouse operators, may also be signatories on specific operational workplans. Operational workplans apply only to the signatories and establish detailed procedures and guidance for the day-to-day operations of specific import/export programs. Operational workplans also establish how specific phytosanitary issues are dealt with in the exporting country and make clear who is responsible for dealing with those issues. Operational workplans require APHIS approval.

If the operational workplan is approved, APHIS would be directly involved with the NPPO of Colombia in monitoring and auditing the systems approach implementation. Such monitoring could involve site visits by APHIS personnel.

Proposed paragraph (a)(2) would require the avocados considered for export to the continental United States to be grown by places of production that are registered with the NPPO of Colombia and that have been determined to be free from H. lauri, H. trifasciatus, and S. catenifer in accordance with the proposed regulations. We discuss the proposed protocol for considering a production site free from these three pests later in this document.

Proposed paragraph (a)(3) would require the avocados to be packed for export to the continental United States in pest-exclusionary packinghouses that are registered with the NPPO of Colombia.

Registration of places of production and packinghouses with the NPPO of Colombia would ensure that the NPPO exercises oversight of these locations and that the places of production and packinghouses continuously follow the provisions of the export program. It would also facilitate traceback in the event that avocados from Colombia are determined to be infested with quarantine pests.

Proposed paragraph (a)(4) would require Hass avocados from Colombia to be imported into the continental United States in commercial consignments only. Noncommercial shipments are more prone to infestations because the commodity is often ripe to overripe, could be of a variety with unknown susceptibility to pests, and is often grown with little or no pest control. Commercial consignments, as defined in § 319.56-2 of the regulations, are consignments that an inspector identifies as having been imported for sale and distribution. Such identification is based on a variety of indicators, including, but not limited to: Quantity of produce, type of packaging, identification of place of production or packinghouse on the packaging, and documents consigning the fruits or vegetables to a wholesaler or retailer. We currently require most other fruits and vegetables imported into the United States from foreign countries to be imported in commercial consignments as a mitigation against quarantine pests of that commodity.

Monitoring and Oversight

The systems approach we are proposing includes monitoring and oversight requirements in paragraph (b) of proposed § 319.56-76. These requirements are to ensure that the required phytosanitary measures are properly implemented throughout the process of growing and packing of avocados for export to the United States.

Proposed paragraph (b)(1) would require the NPPO of Colombia to visit and inspect registered places of production monthly, starting at least 2 months before harvest and continuing until the end of the shipping season, to verify that the growers are complying with grove sanitation requirements (discussed below) and following pest control guidelines, when necessary, to reduce quarantine pest populations. Any personnel conducting trapping and pest surveys under this section at registered places of production would have to be hired, trained, and supervised by the NPPO of Colombia. APHIS would monitor the places of production, if necessary. We may consider it necessary to monitor a place of production, for example, if a registered place of production is suspended from the export program for avocadoes from Colombia due to the presence of quarantine plant pests at the place of production, but is subsequently reinstated after taking appropriate remedial actions to address these pests.

Under paragraph (b)(2), in addition to conducting fruit inspections at the packinghouses, the NPPO of Colombia would be required to monitor packinghouse operations to verify that the packinghouses are complying with the packinghouse requirements for pest exclusion, safeguarding, and identification that are described later in this document.

Under paragraph (b)(3), if the NPPO of Colombia finds that a place of production or a packinghouse is not complying with the proposed regulations, no avocados from the place of production or packinghouse would be eligible for export to the United States until APHIS and the NPPO of Colombia conduct an investigation and agree that appropriate remedial actions have been implemented.

Paragraph (b)(4) would require the NPPO of Colombia to retain all forms and documents related to export program activities in places of production and packinghouses for at least 1 year and, as requested, provide them to APHIS for review. Such forms and documents would include (but would not necessarily be limited to) trapping and survey records for H. lauri, H. trifasciatus, and S. catenifer, as well as inspection records, and, if applicable, treatment records. Treatment records would be applicable when, for instance, the NPPO has required a place of production to follow pest control guidelines as a condition of registration, and these guidelines include treatment.

Grove Sanitation

Under paragraph (c) of proposed § 319.56-76, avocado fruit that has fallen from the trees would have to be removed from each place of production at least once every 7 days, starting 2 months before harvest and continuing to the end of harvest. This procedure would reduce the amount of material in the groves that could serve as potential host material for insect pests.

Fruit that has fallen from avocado trees to the ground may be damaged and thus more susceptible to infestation. Therefore, proposed paragraph (c) would not allow fallen avocado fruit to be included in field containers of fruit brought to the packinghouse to be packed for export.

Mitigation Measures for H. lauri, H. trifasciatus, and S. catenifer

Proposed paragraph (d) of § 319.56-76 would require either that the avocados are grown in places of production located in departments ¹ of Colombia that are designated as free of H. lauri, H. trifasciatus, and S. catenifer in accordance with § 319.56-5, or are grown in places of production that have been surveyed by the NPPO of Colombia and have been determined to be free of these pests. (We discuss measures designed to remove M. hirsutus from the pathway of the avocados later in this document.)

¹ Departments are the administrative unit of Colombia.

Section 319.56-5 specifies that, to be determined to be free of a quarantine pest, an area must be surveyed according to a survey protocol approved by APHIS, and meet the International Plant Protection Convention's International Standards for Phytosanitary Measures (ISPM) No. 4, “Requirements for the establishment of pest-free areas.” ISPM No. 4 require the NPPO to take measures to maintain the pest-free status of the area, including, but not limited to, routine monitoring or the establishment of buffer areas.

Similarly, in order for a place of production to be determined by APHIS to be free of H. lauri, H. trifasciatus, and S. catenifer if it is not located in a pest-free department, the NPPO of Colombia would have to maintain a 1 kilometer buffer zone around the perimeter of the place of production, and would have to survey representative areas of the place of production and buffer zone for H. lauri, H. trifasciatus, and S. catenifer monthly, beginning no more than 2 months before harvest, in accordance with a survey protocol approved by APHIS.

If one or more H. lauri, H. trifasciatus, or S. catenifer is detected during a survey of the place of production or buffer zone, the place of production would be suspended from the export program for avocados to the continental United States until APHIS and the NPPO of Colombia conduct an investigation and agree that appropriate remedial actions to reestablish pest freedom have been implemented.

Harvesting Requirements

Paragraph (e) of proposed § 319.56-76 sets out requirements for harvesting. Harvested avocados would have to be placed in field cartons or containers that are marked with the official registration number of the place of production. The place of production where the avocados were grown would have to remain identifiable when the fruit leaves the grove, at the packinghouse, and throughout the export process. These requirements would ensure that APHIS and the NPPO of Colombia could identify the place of production where the avocados were produced if inspectors find quarantine pests in the fruit either before export or at the port of entry.

We would require the fruit to be moved to a registered packinghouse within 3 hours of harvest or to be protected from fruit fly introduction until moved. Ceratitis capitata and Anastrepha spp. fruit flies are known to exist in Colombia, but Hass avocados are only hosts of these fruit flies once they are harvested. Safeguarding or expeditious shipment to a pest-exclusionary packinghouse would help preclude harvested avocados from becoming infested with fruit flies.

For a similar reason, the fruit would also have to be safeguarded in accordance with the operational workplan while in transit to the packinghouse and while awaiting packing. This safeguarding would prevent the fruit from being infested with fruit flies between harvest and packing.

Packinghouse Requirements

Proposed paragraph (f) of § 319.56-76 would contain packinghouse requirements for Hass avocados from Colombia.

Paragraph (f)(1) would require registered packinghouses to accept only avocados that are from registered places of production and that are produced in accordance with the requirements of the systems approach during the time they are in use for packing avocados for export to the United States.

Paragraph (f)(2) would require avocados to be packed within 24 hours of harvest in a pest-exclusionary packinghouse. All openings to the outside of the packinghouse would have to be screened or covered by a barrier that prevents pest from entering, as specified within the operational workplan. The packinghouse would have to have double doors at the entrance to the facility and at the interior entrance to the area where the avocados are packed. These proposed requirements are designed to exclude insect pests from the packinghouse.

Paragraph (f)(3) would require the avocados to be packed in insect-proof packaging, or covered with insect-proof mesh or a plastic tarpaulin, for transport to the United States. These safeguards would have to remain intact until arrival in the United States.

Paragraph (f)(4) would require shipping documents accompanying consignments of avocados from Colombia that are exported to the United States to specify the place of production at which the avocados were grown as well as the packing shed or sheds in which the fruit was processed and packed. The identification would have to be maintained until the fruit is released for entry into the United States.

These requirements would ensure that APHIS and the NPPO of Colombia could identify the packinghouse at which the fruit was packed if inspectors find quarantine pests in the fruit either before export or at the port of entry.

NPPO of Colombia Inspection

Proposed paragraph (g) of § 319.56-76 would require the NPPO of Colombia to visually inspect a biometric sample of fruit from each place of production at a rate determined by APHIS, following any post-harvest processing. Visual inspection should identify M. hirsutus, an external feeder.

However, H. lauri, H. trifasciatus, and S. catenifer are all internal feeders. Accordingly, we would also require the inspector to cut a portion of the fruit to inspect for these pests.

If a single quarantine pest is detected during this inspection protocol, the consignment from which the sample was taken would be prohibited from being shipped to the United States. Additionally, if a single H. lauri, H. trifasciatus, or S. catenifer at any life stage is detected during this inspection, the place of production of the infested avocados would be suspended from the export program for avocados to the continental United States until APHIS and the NPPO of Colombia conduct an investigation and agree that appropriate remedial actions to reestablish pest freedom have been implemented.

Phytosanitary Certificate

Proposed paragraph (h) of § 319.56-76 would require each consignment of Hass avocados from Colombia to be accompanied by a phytosanitary certificate issued by the NPPO of Colombia with an additional declaration that the avocados were produced in accordance with proposed § 319.56-76 and the operational workplan.

Executive Order 12866 and Regulatory Flexibility Act

This proposed rule has been determined to be not significant for the purposes of Executive Order 12866 and, therefore, has not been reviewed by the Office of Management and Budget.

We have prepared an economic analysis for this rule. The economic analysis provides an initial regulatory flexibility analysis that examines the potential economic effects of this proposed rule on small entities, as required by the Regulatory Flexibility Act. The economic analysis is summarized below. Copies of the full analysis are available by contacting the person listed under FOR FURTHER INFORMATION CONTACT, in the reading room (see ADDRESSES above for more information), or on the Regulations.gov Web site (see ADDRESSES above for instructions for accessing Regulations.gov).

Colombia has requested market access for commercial shipments of Hass avocado into the continental United States under a systems approach. U.S. avocado imports have increased significantly over the years. A growing U.S. population and growing Hispanic share of the population, greater awareness of the avocado's health benefits, year-round availability of fresh, affordable Hass avocados, and greater disposable income have contributed to the increased demand.

The increase in demand over the past decade has contributed to domestic producers being able to maintain production levels despite the large increase in avocado imports. Annual U.S. avocado production, 2003/04 to 2014/15, averaged 206,368 tons, of which California accounted for 87.5 percent or over 375 million pounds. Nearly all of California's production is of the Hass variety.

Potential economic effects of this rule are estimated using a partial equilibrium model of the U.S. fresh Hass avocado sector. Colombia is expected to export 10,000 metric tons of Hass avocados annually to the United States. We estimated economic impacts for annual import levels of 10,000 and 12,000 metric tons. In addition, for the 10,000 metric ton level, we estimate impacts assuming that 20 percent of the imports would displace Hass avocado imports from other countries, yielding a net increase in imports of 8,000 metric tons.

For each import level, consumer welfare gains outweigh producer welfare losses, with positive net welfare impacts. Producer welfare losses under the three import levels range between $4 million and $6 million, which is equivalent to less than 1 percent of the 2014/2015 value of U.S. avocado production. Consumer welfare gains range between $14 million and $22 million, with net welfare gains for the United States of between $10 million and $16 million. The price of fresh Hass avocados is estimated to decline by less than 2 percent under all three import scenarios.

While APHIS does not have information on the size distribution of U.S. avocado producers, according to the Census of Agriculture there were a total of 93,020 Fruit and Tree Nut farms (NAICS 1113) in the United States in 2012. The average value of agricultural products sold by these farms was less than $274,000, which is well below the Small Business Administration's small-entity standard of $750,000. It is reasonable to assume that most avocado farms qualify as small entities. Between 2002 and 2012, the number of avocado operations in California grew by approximately 17 percent, from 4,801 to 5,602 operations.

Executive Order 12988

This proposed rule would allow Hass avocados to be imported into the continental United States from Colombia. If this proposed rule is adopted, State and local laws and regulations regarding avocados imported under this rule would be preempted while the fruit is in foreign commerce. Fresh avocados are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), reporting and recordkeeping requirements included in this proposed rule have been submitted for approval to the Office of Management and Budget (OMB). Please send comments on the Information Collection Request (ICR) to OMB's Office of Information and Regulatory Affairs via email to oira_submissions@omb.eop.gov, Attention: Desk Officer for APHIS, Washington, DC 20503. Please state that your comments refer to Docket No. APHIS-2016-0022. Please send a copy of your comments to the USDA using one of the methods described under ADDRESSES at the beginning of this document.

This proposed rule would allow the importation of Hass avocados from Colombia into the continental United States. These avocados must be produced in accordance with the requirements of a systems approach and will require information collection activities, such as an operational workplan, production site and packinghouse registration, inspection, training, monitoring, investigation, survey and survey investigation protocols, carton markings, shipping documents, post-harvest inspection and investigation, recordkeeping, and phytosanitary certificates.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 3.44 hours per response.

Respondents: Producers, importers of Hass avocados, the NPPO of Colombia.

Estimated annual number of respondents: 79.

Estimated annual number of responses per respondent: 35.99.

Estimated annual number of responses: 2,843.

Estimated total annual burden on respondents: 9,783 hours. (Due to averaging, the total annual burden hours may not equal the product of the annual number of responses multiplied by the reporting burden per response.)

A copy of the information collection may be viewed on the Regulations.gov Web site or in our reading room. (A link to Regulations.gov and information on the location and hours of the reading room are provided under the heading ADDRESSES at the beginning of this proposed rule.) Copies can also be obtained from Ms. Kimberly Hardy, APHIS' Information Collection Coordinator, at (301) 851-2727. APHIS will respond to any ICR-related comments in the final rule. All comments will also become a matter of public record.

E-Government Act Compliance

The Animal and Plant Health Inspection Service is committed to compliance with the E-Government Act to promote the use of the Internet and other information technologies, to provide increased opportunities for citizen access to Government information and services, and for other purposes. For information pertinent to E-Government Act compliance related to this proposed rule, please contact Ms. Kimberly Hardy, APHIS' Information Collection Coordinator, at (301) 851-2727.

List of Subjects for 7 CFR Part 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. Add § 319.56-76 to read as follows:

§ 319.56-76 Hass avocados from Colombia.

Fresh Hass variety (Persea americana P. Mill) avocados may be imported into the continental United States from Colombia only under the conditions described in this section. These conditions are designed to prevent the introduction of the following quarantine pests: Heilipus lauri Boheman, avocado seed weevil; Heilipus trifasciatus, avocado seed weevil; Maconellicoccus hirsutus (Green), pink hibiscus mealybug; and Stenoma catenifer, avocado seed moth.

(a) General requirements. (1) Operational workplan. The national plant protection organization (NPPO) of Colombia must provide an operational workplan to APHIS that details the activities that the NPPO of Colombia and places of production and packinghouses registered with the NPPO of Colombia will, subject to APHIS' approval of the workplan, carry out to meet the requirements of this section. The operational workplan must include and describe the specific requirements as set forth in this section. APHIS will be directly involved with the NPPO of Colombia in monitoring and auditing implementation of the regulatory requirements in this section, including implementation of the operational workplan.

(2) Registered places of production. The fresh avocados considered for export to the continental United States must be grown by places of production that are registered with the NPPO of Colombia and that have been determined to be free from H. lauri, H. trifasciatus, and S. catenifer in accordance with this section.

(3) Registered packinghouses. The avocados must be packed for export to the continental United States in pest-exclusionary packinghouses that are registered with the NPPO of Colombia.

(4) Avocados may be imported in commercial consignments only.

(b) Monitoring and oversight. (1) The NPPO of Colombia must visit and inspect registered places of production monthly, starting at least 2 months before harvest and continuing until the end of the shipping season, to verify that the growers are complying with the grove sanitation requirements of this section and following pest control guidelines, when necessary, to reduce quarantine pest populations. Any personnel conducting trapping and pest surveys under this section at registered places of production must be hired, trained, and supervised by the NPPO of Colombia. APHIS may monitor the places of production if necessary.

(2) In addition to conducting fruit inspections at the packinghouses, the NPPO of Colombia must monitor packinghouse operations to verify that the packinghouses are complying with the requirements of this section.

(3) If the NPPO of Colombia finds that a place of production or packinghouse is not complying with the requirements of this section, no avocados from the place of production or packinghouse will be eligible for export to the United States until APHIS and the NPPO of Colombia conduct an investigation and agree that appropriate remedial actions have been implemented.

(4) The NPPO of Colombia must retain all forms and documents related to export program activities in places of production and packinghouses for at least 1 year and, as requested, provide them to APHIS for review.

(c) Grove sanitation. Avocado fruit that has fallen from the trees must be removed from each place of production at least once every 7 days, starting 2 months before harvest and continuing to the end of harvest. Fallen avocado fruit may not be included in field containers of fruit brought to the packinghouse to be packed for export.

(d) Mitigation measures for H. lauri, H. trifasciatus, and S. catenifer. Avocados must either be grown in places of production located in departments of Colombia that are designated as free of H. lauri, H. trifasciatus, and S. catenifer in accordance with § 319.56-5 of this chapter, or be grown in places of production that have been surveyed by the NPPO of Colombia and have been determined to be free of these pests. If the latter, the NPPO must maintain a buffer zone of 1 kilometer around the perimeter of the place of production, and must survey representative areas of the place of production and buffer zone for H. lauri, H. trifasciatus, and S. catenifer monthly, beginning no more than 2 months before harvest, in accordance with a survey protocol approved by APHIS. If one or more H. lauri, H. trifasciatus, or S. catenifer is detected during a survey of the place of production or buffer zone, the place of production will be suspended from the export program for avocados to the continental United States until APHIS and the NPPO of Colombia conduct an investigation and agree that appropriate remedial actions to reestablish pest freedom have been implemented.

(e) Harvesting requirements. Harvested avocados must be placed in field cartons or containers that are marked with the official registration number of the place of production. The place of production where the avocados were grown must remain identifiable when the fruit leaves the grove, at the packinghouse, and throughout the export process. The fruit must be moved to a registered packinghouse within 3 hours of harvest or must be protected from fruit fly introduction until moved. The fruit must be safeguarded in accordance with the operational workplan while in transit to the packinghouse and while awaiting packing.

(f) Packinghouse requirements. (1) During the time registered packinghouses are in use for packing avocados for export to the United States, the packinghouses may only accept avocados that are from registered places of production and that are produced in accordance with the requirements of this section.

(2) Avocados must be packed within 24 hours of harvest in a pest-exclusionary packinghouse. All openings to the outside of the packinghouse must be screened or covered by a barrier that prevents pests from entering, as specified within the operational workplan. The packinghouse must have double doors at the entrance to the facility and at the interior entrance to the area where the avocados are packed.

(3) Fruit must be packed in insect-proof packaging, or covered with insect-proof mesh or a plastic tarpaulin, for transport to the United States. These safeguards must remain intact until arrival in the United States.

(4) Shipping documents accompanying consignments of avocados from Colombia that are exported to the United States must specify the place of production at which the avocados were grown as well as the packing shed or sheds in which the fruit was processed and packed. This identification must be maintained until the fruit is released for entry into the United States.

(g) NPPO of Colombia inspection. Following any post-harvest processing, inspectors from the NPPO of Colombia must visually inspect a biometric sample of fruit from each place of production at a rate to be determined by APHIS. The inspectors must visually inspect for quarantine pests, including M. hirsutus, and must cut a portion of the fruit to inspect for H. lauri, H. trifasciatus, and S. catenifer. If a single quarantine pest is detected during this inspection protocol, the consignment from which the sample was taken is prohibited from being shipped to the United States. Additionally, if a single H. lauri, H. trifasciatus, or S. catenifer at any life stage is detected during this inspection, the place of production of the infested avocados will be suspended from the export program for avocados to the continental United States until APHIS and the NPPO of Colombia conduct an investigation and agree that appropriate remedial actions to reestablish pest freedom have been implemented.

(h) Phytosanitary certificate. Each consignment of Hass avocados from Colombia must be accompanied by a phytosanitary certificate issued by the NPPO of Colombia with an additional declaration stating that the avocados in the consignment were produced in accordance with this section and the operational workplan.

Done in Washington, DC, this 21st day of October 2016.
Michael C. Gregoire,
Acting Administrator, Animal and Plant Health Inspection Service.

[FR Doc. 2016-26033 Filed 10-26-16; 8:45 am]

BILLING CODE 3410-34-P